DEPARTMENT OF THE INTERIOR

Bureau of Land Management

[LLAZ956000.L14200000.BJ0000.241A]

Notice of Filing of Plats of Survey; Arizona

AGENCY: Bureau of Land Management, Interior.

ACTION: Notice of filing of plats of survey; AZ.

SUMMARY: The plats of survey of the described lands were officially filed in the Arizona State Office, Bureau of Land Management, Phoenix, Arizona, on dates indicated.

SUPPLEMENTARY INFORMATION:

The Gila and Salt River Meridian, Arizona

The plat representing the dependent resurvey of a portion of the north boundary, Township 29 North, Range 6 East, and the dependent resurvey of a portion of the subdivisional lines and the subdivision of sections 23 and 26, which is identical to the boundary between the Navajo Indian Reservation and the Kaibab National Forest and the Grand Canyon National Park, Township 30 North, Range 6 East, accepted November 3, 2009, and officially filed November 6, 2009, for Group 1059, Arizona.

This plat was prepared at the request of the Bureau of Indian Affairs, Navajo Regional Office.

The plat representing the dependent resurvey of a portion of the subdivisional lines, which is identical to the boundary between the Navajo Indian Reservation and the Grand Canyon National Park, Township 31 North, Range 6 East, accepted April 5, 2010, and officially filed April 7, 2010, for Group 1059, Arizona.

This plat was prepared at the request of the Bureau of Indian Affairs, Navajo Regional Office.

The plat representing the dependent resurvey of a portion of the subdivisional lines, which is identical to the boundary between the Navajo Indian Reservation and the Grand Canyon National Park, Township 32 North, Range 6 East, accepted April 5, 2010, and officially filed April 7, 2010, for Group 1059, Arizona.

This plat was prepared at the request of the Bureau of Indian Affairs, Navajo Regional Office.

The plat representing the subdivision of a portion of section 28, the subdivision of section 29 and metes-and-bounds surveys in sections 28 and 29, Township 20 North, Range 7 East, accepted February 2, 2010, and officially filed February 5, 2010, for Group 1016, Arizona.

This plat was prepared at the request of the United States Forest Service.

The plat representing the dependent resurvey of the north boundary and a portion of the east boundary, Township 29 North, Range 7 East, accepted November 3, 2009, and officially filed November 6, 2009, for Group 1059, Arizona.

This plat was prepared at the request of the Bureau of Indian Affairs, Navajo Regional Office.

The plat representing the survey of the Second Guide Meridian East (east boundary), Townships 30, 31 and 32 North, Range 8 East, accepted January 26, 2010, and officially filed January 29, 2010, for Group 1059, Arizona.

This plat was prepared at the request of the Bureau of Indian Affairs, Navajo Regional Office.

The plat representing the dependent resurvey of the Second Guide Meridian East (west boundary), the south and east boundaries, the subdivisional lines and the survey of the subdivision of certain sections, Township 28 North, Range 9 East, accepted January 22, 2010, and officially filed January 27, 2010, Group No. 1058, Arizona.

This plat was prepared at the request of the Bureau of Indian Affairs, Navajo Regional Office.

The plat (3 sheets) representing the dependent resurvey of a portion of the Seventh Standard Parallel North (south boundary), the Second Guide Meridian East (west boundary), a portion of the subdivisional lines and the Adjusted 1916 Meanders of the Left Bank of the Little Colorado River, and the survey of a portion of the Seventh Standard Parallel North (south boundary), the east and north boundaries, a portion of the subdivisional lines, a portion of the subdivision of section 22 and the Meanders of the Right Bank of the Little Colorado River, Township 29 North, Range 9 East, accepted January 19, 2010, and officially filed January 22, 2010, for Group 1057, Arizona.

This plat was prepared at the request of the Bureau of Indian Affairs, Navajo Regional Office.

The plat representing the establishment of the northeast and northwest township corners and an electronic control monument, Township 30 North, Range 9 East, accepted February 9, 2010, and officially filed February 12, 2010, for Group 1059, Arizona.

This plat was prepared at the request of the Bureau of Indian Affairs, Navajo Regional Office.

The plat representing the establishment of the northwest township corner and an electronic control monument, Township 31 North, Range 9 East, accepted February 9, 2010, and officially filed February 12, 2010, for Group 1059, Arizona.

This plat was prepared at the request of the Bureau of Indian Affairs, Navajo Regional Office.

The plat representing the establishment of an electronic control monument, Township 32 North, Range 9 East, accepted February 9, 2010, and officially filed February 12, 2010, for Group 1059, Arizona.

This plat was prepared at the request of the Bureau of Indian Affairs, Navajo Regional Office.

The plat representing the dependent resurvey of a portion of the south boundary, Township 32 ½ North, Range 8 East, and a portion of the Eight Standard Parallel North (south boundary), Township 33 North, Range 9 East, accepted January 26, 2010, and officially filed January 29, 2010, for Group 1059, Arizona.

This plat was prepared at the request of the Bureau of Indian Affairs, Navajo Regional Office.

The plat (3 sheets) representing the dependent resurvey of the west boundary and a portion of the boundary of Management District No. 6, Hopi Indian Reservation, and the survey of a portion of the Fifth Guide Meridian East (east boundary), and the subdivisional lines, Township 29 North, Range 20 East, accepted March 25, 2010, and officially filed March 29, 2010, for Group 1066, Arizona.

This plat was prepared at the request of the Bureau of Indian Affairs, Western Regional Office.

The plat representing the survey of the south, east and west boundaries, and the subdivisional lines, Township 39 North, Range 27 East, accepted August 6, 2009, and officially filed August 12, 2009, for Group 1046, Arizona.

This plat was prepared at the request of the Bureau of Indian Affairs, Navajo Regional Office.

The supplemental plat of section 14, Township 21 North, Range 28 East, accepted March 1, 2010, and officially filed March 3, 2010, for Group 9104, Arizona.

This plat was prepared at the request of the Bureau of Indian Affairs, Navajo Regional Office.

The plat representing the dependent resurvey of portions of the Sixth Standard Parallel North (south boundary), Townships 25 North, Ranges 28 and 29 East and the dependent resurvey of the south boundary, and the survey of the Seventh Guide Meridian East (west boundary) and the subdivisional lines, Township 24 North, Range 29 East, accepted October 13, 2009, and officially filed October 16, 2009, for Group 1049, Arizona.

This plat was prepared at the request of the Bureau of Indian Affairs, Navajo Regional Office.

The plat representing the dependent resurvey of a portion of the west boundary, a portion of the subdivisional lines, a portion of the subdivision of sections 19 and 30, and Tract 37 and the survey of the east and west center line of the northeast quarter of section 30, Township 8 South, Range 22 West, accepted March 23, 2010, and officially filed March 25, 2010, for Group 1060, Arizona.

This plat was prepared at the request of the Bureau of Land Management.

The supplemental plat of section 34, Township 8 South, Range 23 West, accepted August 11, 2009, and officially filed August 14, 2009, Arizona.

This plat was prepared at the request of the Bureau of Land Management.

The supplemental plat of the SW ¼ of section 12, Township 11 South, Range 25 West, accepted March 2, 2010, and officially filed March 4, 2010, for Group 9104, Arizona.

This plat was prepared at the request of the Bureau of Land Management.

The plat representing the dependent resurvey of the Sectional Correction Line and a portion of the subdivisional lines and the subdivision of sections 23, 24 and 26, Township 14 South, Range 10 East, accepted March 17, 2010, and officially filed March 19, 2010, for Group 1055, Arizona.

This plat was prepared at the request of the Bureau of Indian Affairs, Western Regional Office.

The plat (2 sheets) representing the dependent resurvey of a portion of the west boundary of the San Carlos Indian Reservation, a portion of the Gila and Salt River Base Line through Range 16 East (north boundary), a portion of the south boundary and the survey of south and east boundaries, and subdivisional lines (within the San Carlos Indian Reservation), Township 1 South, Range 16 East, accepted August 12, 2009, and officially filed August 17, 2009, for Group 873, Arizona.

This plat was prepared at the request of the Bureau of Indian Affairs, Western Regional Office.

The plat representing the dependent resurvey of a portion of the Gila and Salt River Base Line through Ranges 16 and 17 East (north boundary) and the survey of the south and east boundaries and the subdivisional lines, Township 1 South, Range 17 East, accepted October 28, 2009, and officially filed October 30, 2009, for Group 873, Arizona.

This plat was prepared at the request of the Bureau of Indian Affairs, Western Regional Office.

The plat representing the establishment of the southeast and northeast township corners and an electronic control monument, Township 1 South, Range 18 East, accepted October 29, 2009, and officially filed October 30, 2009, for Group 873, Arizona.

This plat was prepared at the request of the Bureau of Indian Affairs, Western Regional Office.

The plat representing the corrective dependent resurvey of a portion of the east boundary of the San Carlos Indian Reservation, Township 4 South, Range 22 East, accepted January 8, 2010, and officially filed January 13, 2010, for Group 554, Arizona.

This plat was prepared at the request of the Bureau of Indian Affairs, Western Regional Office.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats are available for inspection in the Arizona State Office, Bureau of Land Management, One North Central Avenue, Suite 800, Phoenix, Arizona 85004-4427.

Dated: April 13, 2010.
Stephen K. Hansen,
Chief Cadastral Surveyor of Arizona.

[FR Doc. 2010-9046 Filed 4-19-10; 8:45 am]

BILLING CODE 4310-32-P